DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2011, there were 10 applications approved. This notice also includes information on three applications, approved in July 2011, inadvertently left off the July 2011 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Luzerne and Lackawanna Counties, Avoca, Pennsylvania.

Application Number: 11-08-C-00-AVP.

Application Type: Impose and use a PFC.

PFC Level: $4.50.

Total PFC Revenue Approved in This Decision: $2,611,599.

Earliest Charge Effective Date: August 1, 2018.

Estimated Charge Expiration Date: June 1, 2025.

Class of Air Carriers Not Required to Collect PFCs: None.

Brief Description of Projects Approved for Collection and Use:

Expand general aviation apron.

Acquire security equipment.

Acquire snow removal equipment.

Acquire aircraft rescue and firefighting vehicle.

Conduct miscellaneous study.

Install guidance signs.

Rehabilitate runway, phases I, II, and III.

Rehabilitate taxiway B, phases I and II.

Acquire snow removal equipment—snow blower.

Acquire aircraft rescue and firefighting vehicle.

Acquire snow removal equipment, phase II.

Construct taxiway to runway 10/28.

Design/construct air cargo/general aviation apron.

Design passenger terminal apron.

Construct aircraft rescue and firefighting building, phases I and II.

Rehabilitate runway 10/28.

Rehabilitate taxiway D (east) and northwest end of taxiway A.

Security enhancements.

Acquire snow removal equipment, phase I.

Improve runway safety area, runway 4, phases I and II.

Acquire snow removal equipment, phase II.

Upgrade and relocate airfield equipment and air traffic control tower center controls for new control tower.

Design and construct new south general aviation apron.

Remove obstructions.

Design and construct access road for general aviation area.

Design terminal expansion and in-line baggage screening system.

Design and construct taxiway B extension (runway 22 approach end).

Decision Date: July 21, 2011.

For Further Information Contact: Lori Ledebohm, Harrisburg Airports District Office, (717) 730-2835.

Public Agency: County of Humboldt, Eureka, California.

Application Number: 11-10-C-00-ACV.

Application Type: Impose and use a PFC.

Total PFC Revenue Approved in This Decision: $1,851,818.

PFC Level: $4.50.

Earliest Charge Effective Date: October 1, 2011.

Estimated Charge Expiration Date: August 1, 2016.

Classes of Air Carriers Not Required To Collect PFCs: (1) Nonscheduled/on-demand air carriers filing FAA From 1800-31; and (2) nonscheduled large certificated air carriers filing Department of Transportation Research and Special Programs Administration Form T-100.

Determination: Approved. Based on information contained in the public agency's application, the FAA has determined that each proposed class accounts for less than 1 percent of the total annual enplanements at Arcata Airport (ACV).

Brief Description of Projects Approved for Collection at ACV and USE at ACV:

PFC administration.

Runway 14/32 safety area improvements.

Runway 01/19 safety area grading enhancements.

Wildlife hazard assessment.

Bluff stabilization at runway 14 end—design.

Bluff stabilization at runway 14 end—construction.

Study removal of obstructions in runway approach.

Airfield lighting upgrade.

Handicapped passenger boarding equipment.

Brief Description of Projects Approved for Collection at ACV and Use at Dinsmore Airport (D63):

Study removal of obstructions in runway approach.

Removal of obstructions in runway approach.

Installation of windsock and segmented circle.

Brief Description of Projects Approved for Collection at ACV and Use at Garberville Airport (O16):

Study removal of obstructions in runway approach.

Design runway 18/36 rehabilitation.

Removal of obstructions in runway approach.

Runway 18/36 rehabilitation.

Rehabilitate and expand aircraft ramp.

Design runway 18/36 safety area drainage.

Brief Description of Projects Approved for Collection at ACV and Use at Kneeland Airport (O19):

Study removal of obstructions in runway approach.

Design fencing and gates.

Install fencing and gates.

Brief Description of Projects Approved for Collection at ACV and Use at Murray Field (EKA):

Design wildlife perimeter fencing.

Design automated weather observing system.

Design runway 12/30 rehabilitation.

Upgrade runway 12/30 lighting.

Runway 12/30 rehabilitation.

Design access road rehabilitation.

Brief Description of Projects Approved for Collection at ACV and Use at Rohnerville Airport (FOT):

Runway/taxiway rehabilitation, phase 1.

Runway/taxiway rehabilitation, phase 2.

Reconstruct aircraft ramp.

Brief Description of Projects Approved for Collection at ACV for Future Use at ACV:

Construct aircraft rescue and firefighting station.

Taxiways B and G drainage improvements.

Design a new access roadway.

Brief Description of Projects Approved for Collection at ACV for Future Use at D63:

Design west end storm drain improvements.

Construct west end storm drain improvements.

Design fencing and gates.

Construct fencing and gates.

Brief Description of Project Approved for Collection at ACV for Future Use at O16: Construct runway 18/36 safety area drainage.

Brief Description of Project Approved for Collection at ACV for Future Use at O19: Construct erosion control/bluff stabilization.

Brief Description of Project Approved for Collection at ACV for Future Use at EKA: Access road rehabilitation.

Brief Description of Project Approved for Use at O16: Install automated weather observing system.

Brief Description of Project Approved for Use at O19: Design erosion control/stabilization.

Brief Description of Projects Approved for Use at EKA:

Install perimeter fencing and gates.

Install automated weather observing system.

Brief Description of Project Approved for Use at FOT: Install automated weather observing system.

Brief Description of Disapproved Project: Procure 1-inch jet pump for runway marking/striper installation.

Determination: Disapproved. This project does not meet the requirements of § 158.15(b) and, therefore, is not eligible for PFCs.

Decision Date: July 22, 2011.

For Further Information Contact: Gretchen Kelly, San Francisco Airports District Office, (650) 876-2778, extension 623.

Public Agency: Pitt County—City of Greenville Airport Authority, Greenville, North Carolina.

Application Number: 11-04-C-00-PGV.

Application Type: Impose and use a PFC.

Total PFC Revenue Approved in This Decision: $9,589,497.

PFC Level: $4.50.

Earliest Charge Effective Date: October 1, 2011.

Estimated Charge Expiration Date: October 1, 2038.

Class of Air Carriers Not Required To Collect PFCs: Air taxi/commercial operators filing FAA Form 1800-31.

Determination: Approved. Based on information contained in the public agency's application, the FAA has determined that the proposed class accounts for less than 1 percent of the total annual enplanements at Pitt-Greenville Airport.

Brief Description of Projects Approved for Collection and Use:

North jetway loading bridges and ancillary equipment.

Stormwater pollution prevention plan and spill prevention control and countermeasure plan updates.

Terminal expansion construction professional services.

Terminal expansion passenger seating.

Rehabilitate deicing ramp (design and construction).

Air carrier apron expansion (design and construction).

Master plan/airport layout plan update.

Geographic information system mapping.

Apron lighting (design and construction).

PFC program development.

PFC program administration.

Brief Description of Projects Approved for Collection:

Land acquisition runway 20 approach, professional services.

Runway 2/20 runway safety area extension (design and construction).

Land acquisition, runway 20 extension (Lewis parcels).

Land acquisition, runway 20 runway safety area and runway extension.

Brief Description of Disapproved Project: Demolish former Army Reserve building.

Determination: Disapproved. This project does not meet the requirements of § 158.15(b) and, therefore, is not eligible for PFCs.

Decision Date: July 22, 2011.

For Further Information Contact: John Marshall, Atlanta Airports District Office, (404) 305-7153.

Public Agency: Virgin Islands Port Authority, St. Thomas, Virgin Islands.

Application Number: 11-05-C-00-STX.

Application Type: Impose and use a PFC.

PFC Level: $3.00.

Total PFC Revenue Approved in This Decision: $1,869,822.

Earliest Charge Effective Date: October 1, 2011.

Estimated Charge Expiration Date: February 1, 2021.

Class of Air Carriers Not Required To Collect PFC's: None.

Brief Description of Project Approved for Collection at Henry E. Rohlsen Airport and Use at Cyril E. King Airport: Terminal improvements.

Decision Date: August 11, 2011.

For Further Information Contact: Susan Moore, Orlando Airports District Office, (407) 812-6331.

Public Agency: Virgin Islands Port Authority, St. Thomas, Virgin Islands.

Application Number: 11-08-C-00-STT.

Application Type: Impose and use a PFC.

PFC Level: $4.50.

Total PFC Revenue Approved in This Decision: $13,353,396.

Earliest Charge Effective Date: April 1, 2012.

Estimated Charge Expiration Date: October 1, 2021.

Class of Air Carriers Not Required To Collect PFC's: None.

Brief Description of Project Partially Approved for Collection and Use: Terminal improvements.

Determination: Several project components were determined to serve both eligible and ineligible areas. Therefore, those components were partially approved.

Decision Date: August 11, 2011.

For Further Information Contact: Susan Moore, Orlando Airports District Office, (407) 812-6331.

Public Agency: Toledo-Lucas County Port Authority, Toledo, Ohio.

Application Number: 11-06-C-00-TOL.

Application Type: Impose and use a PFC.

Total PFC Revenue Approved in This Decision: $2,288,261.

PFC Level: $4.50.

Earliest Charge Effective Date: December 1, 2011.

Estimated Charge Expiration Date: June 1, 2018.

Class of Air Carriers Not Required To Collect PFCs: Nonscheduled/on-demand air carriers filing FAA Form 1800-31.

Determination: Approved. Based on information contained in the public agency's application, the FAA has determined that the proposed class accounts for less than 1 percent of the total annual enplanements at Toledo Express Airport.

Brief Description of Projects Approved for Collection and Use:

Rehabilitation of runway 16/34—construction.

Rehabilitate taxiway D shoulders—design and construction.

Rehabilitate runway 7/25—design.

Reconstruction/relocation of taxiway N—construction.

Rehabilitate runway 7/25—construction.

Rehabilitate taxiways B, A, and B-1—design.

Pavement condition update.

Acquire aircraft rescue and firefighting vehicle.

Acquire passenger loading bridge.

Decision Date: August 12, 2011.

For Further Information Contact: Mary Jagiello, Detroit Airports District Office, (734) 229-2956.

Public Agency: Oklahoma City Airport Trust, Oklahoma City, Oklahoma.

Application Number: 11-04-C-00-0KC.

Application Type: Impose and use a PFC.

Total PFC Revenue Approved in This Decision: $5,226,000.

PFC Level: $4.50.

Earliest Charge Effective Date: August 1, 2020.

Estimated Charge Expiration Date: March 1, 2021.

Class of Air Carriers Not Required To Collect PFC's: Air taxi/commercial operators filing FAA Form 1800-31.

Determination: Approved. Based on information contained in the public agency's application, the FAA has determined that the proposed class accounts for less than 1 percent of the total annual enplanements at Will Rogers World Airport.

Brief Description of Projects Approved for Collection and Use:

Checked baggage inspection system.

PFC consulting services.

Decision Date: August 17, 2011.

For Further Information Contact: Lana Logan, Arkansas/Oklahoma Airports Development Office, (817) 222-5636.

Public Agency: Tweed—New Haven Airport Authority, New Haven Connecticut.

Application Number: 11-05-C-00-HVN.

Application Type: Impose and use a PFC.

Total PFC Revenue Approved in This Decision: $328,790.

PFC Level: $4.50.

Earliest Charge Effective Date: October 1, 2011.

Estimated Charge Expiration Date: December 1, 2013.

Class of Air Carriers Not Required To Collect PFCs: Air taxi/commercial operators non-scheduled on-demand.

Determination: Approved. Based on information contained in the public agency's application, the FAA has determined that the proposed class accounts for less than 1 percent of the total annual enplanements at Tweed-New Haven Regional Airport.

Brief Description of Projects Approved for Collection and Use:

Runway 20 safety area improvements, (runway safety area phase II).

Taxiway B reconstruction and extension wetlands mitigation, (runway safety area phase III).

Relocate runway 2/20 localizer.

Part 150 noise study.

Runway 2/20 rehabilitation.

Acquire runway sweeper.

Security enhancements.

Continuous friction measuring equipment.

Brief Description of Disapproved Project: Airfield inspection and reporting.

Determination: Disapproved. This project does not meet the requirements of § 158.15(b) and, therefore, is not eligible for PFCs.

Decision Date: August 18, 2011.

For Further Information Contact: Priscilla Scott, New England Region Airports Division, (781) 238-7614.

Public Agency: City of Waterloo, Iowa.

Application Number: 11-10-C-00-ALO.

Application Type: Impose and use a PFC.

Total PFC Revenue Approved in This Decision: $97,420.

PFC Level: $4.50.

Earliest Charge Effective Date: March 1, 2012.

Estimated Charge Expiration Date: June 1, 2013.

Class of Air Carriers Not Required To Collect PFCs: None.

Brief Description of Projects Approved for Collection and Use:

Design taxiways A, B, and E and ramp.

Taxiway E rehabilitation.

PFC annual audit and administration.

Decision Date: August 18, 2011.

For Further Information Contact: Jim Johnson, Central Region Airports Division, (816) 329-2600.

Public Agency: City of Lebanon, New Hampshire.

Application Number: 11-07-C-00-LEB.

Application Type: Impose and use a PFC.

Total PFC Revenue Approved in This Decision: $68,519.

PFC Level: $4.50.

Earliest Charge Effective Date: October 1, 2011.

Estimated Charge Expiration Date: November 1, 2013.

Class of Air Carriers Not Required To Collect PFCs: None.

Brief Description of Projects Approved for Collection and Use:

Construct apron (wetland restoration).

Update master plan.

Boarding ramp, snow removal equipment, and enhanced taxiway markings.

Miscellaneous improvements (lighting).

Environmental mitigation.

Miscellaneous airport improvements (air traffic control tower controls).

Acquire snow removal equipment.

Environmental assessment—phase I.

Environmental assessment—phase II.

Wildlife hazard assessment.

Airport property study.

Environmental assessment—permitting.

Decision Date: August 18, 2011.

For Further Information Contact: Priscilla Scott, New England Region Airports Division, (781) 238-7614.

Public Agency: Hall County Airport Authority, Grand Island, Nebraska.

Application Number: 11-03-C-00-GRI.

Application Type: Impose and use a PFC.

Total PFC Revenue Approved in This Decision: $932,944.

PFC Level: $4.50.

Earliest Charge Effective Date: November 1, 2013.

Estimated Charge Expiration Date: August 1, 2018.

Class of Air Carriers Not Required To Collect PFCs: None.

Brief Description of Projects Approved for Collection and Use:

Rehabilitate runway 17/35.

Rehabilitate apron, phase 1.

Rehabilitate runway 17/35, phase 1.

Rehabilitate taxiway, phase 1.

Security enhancements.

Install perimeter fencing.

Rehabilitate apron, phase 2.

Rehabilitate runway 17/35, phase 2.

Rehabilitate taxiway, phase 2.

Rehabilitate apron, phase 3.

Rehabilitate runway 17/35, phase 3.

Rehabilitate taxiway, phase 3.

Rehabilitate runway 17/35, phase 4.

Acquire aircraft rescue and firefighting vehicle.

Security enhancements.

Rehabilitate apron.

Update master plan study.

Acquire snow removal equipment.

Acquire snow removal equipment.

Rehabilitate taxiway, phase 1.

Rehabilitate taxiway, phase 2.

Wildlife hazard assessment.

Decision Date: August 23, 2011.

For Further Information Contact: Mark Schenkelberg, Central Region Airports Division, (816) 329-2645.

Public Agency: City of Kearney, Nebraska.

Application Number: 11-04-C-00-EAR.

Application Type: Impose and use a PFC.

Total PFC Revenue Approved in This Decision: $191,378.

PFC Level: $4.50.

Earliest Charge Effective Date: October 1, 2011.

Estimated Charge Expiration Date: April 1, 2016.

Class of Air Carriers Not Required To Collect PFCs: None.

Brief Description of Projects Approved for Collection and Use:

General aviation terminal apron, sealcoat.

Runway 13/31 markings and miscellaneous pavement repairs.

Mark surface painted hold position signs.

Environmental assessment.

Land acquisition for runway 3/31.

Airport rescue and firefighting station construction.

Aircraft rescue and firefighting truck.

Decision Date: August 23, 2011.

For Further Information Contact: Mark Schenkelberg, Central Region Airports Division, (816) 329-2645.

Public Agency: County and City of Spokane, Spokane, Washington.

Application Number: 11-09-C-00-GEG.

Application Type: Impose and use a PFC.

Total PFC Revenue Approved in This Decision: $10,215,000.

PFC Level: $4.50.

Earliest Charge Effective Date: October 1, 2012.

Estimated Charge Expiration Date: September 1, 2014.

Class of Air Carriers Not Required To Collect PFCs: None.

Brief Description of Projects Approved for Collection and Use:

Construct snow removal equipment building.

Snow removal equipment.

Glycol recovery equipment.

PFC application and administration fees.

Decision Date: August 23, 2011.

For Further Information Contact: Karen Miles, Seattle Airports District Office, (425) 227-2661.

Amendments to PFC Approvals
Amendment No., City, State | Amendment approved date | Original approved net PFC revenue | Amended approved net PFC revenue | Original estimated charge exp. date | Amended estimated charge exp. date
07-13-C-02-BNA, Nashville, TN | 07/21/11 | $15,720,134 | $15,605,263 | 04/01/11 | 04/01/11
09-03-C-01-PGV, Greenville, NC | 07/22/11 | 753,324 | 596,985 | 08/01/12 | 10/01/11
02-01-C-01-WRL, Worland, WY | 08/08/11 | 70,500 | 72,022 | 03/01/08 | 03/01/08
01-04-C-02-EUG, Eugene, OR | 08/11/11 | 2,812,313 | 4,005,128 | 06/01/03 | 08/01/05
07-07-C-02-ALO, Waterloo, IA | 08/23/11 | 363,977 | 299,977 | 03/01/11 | 12/01/10
10-09-C-01-ALO, Waterloo, IA | 08/23/11 | 35,100 | 44,750 | 03/01/12 | 09/01/11
00-02-C-02-GRI, Grand Island, NE | 08/23/11 | 545,219 | 553,865 | 11/01/13 | 08/01/11
94-01-I-02-CBE, Wiley, WV | 08/23/11 | 150,000 | 144,345 | 06/01/06 | 06/01/06
97-02-U-01-CBE, Wiley, WV | 08/23/11 | NA | NA | 06/01/06 | 06/01/06
08-09-C-01-ACV, Eureka, CA | 08/26/11 | 926,450 | 956,975 | 08/01/11 | 08/01/11

Issued in Washington, DC, on September 7, 2011.
Joe Hebert,
Manager, Financial Analysis and Passenger Facility Charge Branch.

[FR Doc. 2011-23885 Filed 9-16-11; 8:45 am]

BILLING CODE 4910-13-M